SECURITIES AND EXCHANGE COMMISSION

[Release No. 34-89471; File No. SR-CboeBZX-2020-057]

Self-Regulatory Organizations; Cboe BZX Exchange, Inc.; Notice of Filing and Immediate Effectiveness of a Proposed Rule Change To Amend the Options Regulatory Fee

August 4, 2020.

Correction

In notice document 2020-17352 appearing on pages 49405-49407 in the issue of August 13, 2020, make the following correction:

On page 49405, in the first column, the File No. in the heading is corrected to read as set forth above.

[FR Doc. C1-2020-17352 Filed 9-14-20; 8:45 am]

BILLING CODE 1301-00-D